DEPARTMENT OF LABOR

Occupational Safety and Health Administration

[Docket No. ICR 1218-0020(2001)]

Training Grant Application; Extension of the Office of Management and Budget's Approval of Information-Collection (Paperwork Requirements)

AGENCY: Occupational Safety and Health Administration (OSHA), Labor.

ACTION: Notice of an opportunity for public comment.

SUMMARY: OSHA solicits public comment concerning its request to the Office of Management and Budget (OMB) for an extension of the information-collection requirements specified in its training grant application.

DATES: Submit written comments on or before April 30, 2001.

ADDRESSES: Submit written comments to the Docket Office, Docket No. ICR 1218-0020(2001), OSHA, U.S. Department of Labor, Room N-2625, 200 Constitution Avenue, NW., Washington, DC 20210; telephone: (202) 693-2350. Commenters may transmit written comments of 10 pages or less by facsimile to: (202) 693-1648.

FOR FURTHER INFORMATION CONTACT: Cindy Bencheck, Division of Training and Educational Programs, OSHA Office of Training and Education, 1555 Times Drive, Des Plaines, Illinois 60018; telephone: (847) 297-4810; e-mail: cindy.bencheck@oti.osha.gov; or facsimile: (847) 297-4874. A copy of the Agency's Information-Collection Request (ICR) supporting the need for the information collections specified in the training grant application is available for inspection and copying in the Docket Office, or by requesting a copy from Todd Owen at (202) 693-2444. For electronic copies of the ICR, contact OSHA on the Internet at http://www.osha.gov/.

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (44 U.S.C. 3506(c)(2)(A)). This program ensures that information is in the desired format, reporting burden (time and costs) is minimal, collection instruments are clearly understood, and OSHA's estimate of information burden is correct.

Section 21 of the Occupational Safety and Health Act of 1970 (the “OSH Act”) (29 U.S.C. 670) authorizes the Occupational Safety and Health Administration (“OSHA” or the “Agency”) to conduct directly, or through grants and contracts, education and training courses. These courses must ensure an adequate number of qualified personnel to fulfill the purposes of the Act, provide them with short-term training, inform them of the importance and proper use of safety and health equipment, and train employers and employees to recognize, avoid, and prevent unsafe and unhealthful working conditions.

Under Section 21, the Agency awards grants to nonprofit organizations to provide part of the required training. To obtain such a grant, an organization must complete the training grant application. OSHA uses the information in this application to evaluate: The organization's competence to provide the proposed training (including the qualifications of the personnel who manage and implement the training); the goals and objectives of the proposed training program; a workplan that describes in detail the tasks that the organization will implement to meet these goals and objectives; the appropriateness of the proposed costs; and compliance with Federal regulations governing nonprocurement debarment and suspension, maintaining a drug-free workplace, and lobbying activities. Also required is a program summary that Agency officials use to review and evaluate the highlights of the overall proposal.

After awarding a training grant, OSHA uses the workplan and budget information provided in the application to monitor the organization's progress in meeting training goals and objectives, as well as planned expenditures. The initial grant award is for one year, with possible renewals at one-year intervals. An organization must submit separate applications for the initial award and for each renewal award.

II. Special Issues for Comment

The Agency has a particular interest in comments on the following issues:

• Whether the proposed information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend OMB's approval of the collection-of-information (paperwork) requirements specified in the training grant application. The Agency will summarize the comments submitted in response to this notice, and will include this summary, along with the comments, in its request to OMB to extend the approval of these information-collection requirements.

Type of Review: Extension of currently approved information-collection requirements.

Title: Training grant application.

OMB Number: 1218-0020.

Affected Public: Not-for-profit institutions.

Number of Respondents: 200.

Frequency: Annually.

Total Responses: 200.

Average Time per Response: 59 hours.

Estimated Total Burden Hours: 11,800.

Estimated Cost (Operation and Maintenance): $377,000.

IV. Authority and Signature

R. Davis Layne, Acting Assistant Secretary of Labor for Occupational Safety and Health, directed the preparation of this notice. The authority for this notice is the Paperwork Reduction Act of 1995 (44 U.S.C. 3506) and the Secretary of Labor's Order No. 3-2000 (65 FR 50017).

Signed at Washington, DC on February 23, 2001.
R. Davis Layne,
Acting Assistant Secretary of Labor.

[FR Doc. 01-4902 Filed 2-27-01; 8:45 am]

BILLING CODE 4510-26-P